FEDERAL COMMUNICATIONS COMMISSION

Public Information Collection(s) Requirement Submitted to OMB for Emergency Review and Approval

July 15, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 26, 2002. If you anticipate that you will be submitting comments, but find it difficult to do so within the period of time allowed by this notice, you should advise the contacts listed below as soon as possible.

ADDRESSES: Direct all comments to Kim A. Johnson, Office of Management and Budget, Room 10236 NEOB, Washington, DC 20503, (202) 395-7232 or via internet at Kim_A._Johnson@omb.eop.gov, and Judith Boley Herman, Federal Communications Commission, Room 1-C804, 445 12th Street, SW., Washington, DC 20554 or via internet to jboley@fcc.gov.

FOR FURTHER INFORMATION CONTACT: For additional information or copies of the information collections contact Judith Boley Herman at 202-418-0214 or via internet at jboley@fcc.gov.

SUPPLEMENTARY INFORMATION: The Commission has requested emergency OMB review of this collection with an approval by July 26, 2002.

OMB Control Number: 3060-XXXX.

Type of Review: New collection.

Title: Letter Re: In the matter of the Commission's Rules to Ensure Compatibility with Enhanced 911 Emergency Calling Systems.

Form No.: N/A.

Respondents: Business or other for-profit, not for-profit institutions, state, local or tribal government.

Number of Respondents: 6.

Estimated Time Per Response: 8 hours.

Frequency of Response: On-time reporting requirement.

Total Annual Burden: 48 hours.

Total Annual Cost: N/A.

Needs and Uses: The Chief of the Wireless Telecommunications Bureau seeks information from six of the nation's Incumbent Local Exchange Carriers (ILECs) regarding the status of their Automatic Location Information databases in order to assist Commercial Mobile Radio Carriers planning their transition to E911.

Federal Communications Commission.
Marlene H. Dortch,
Secretary.

[FR Doc. 02-18250 Filed 7-18-02; 8:45 am]

BILLING CODE 6712-01-P